Title 3—

The President

Executive Order 13745 of October 31, 2016

Delegation of Function to the Director of the Office of Personnel Management

By virtue of the authority vested in me as President by the Constitution and the laws of the United States, including section 301 of title 3, United States Code, it is hereby ordered as follows:

Section 1. (a) The Director of the Office of Personnel Management (OPM) is hereby authorized to exercise the function vested in the President by section 6391 of title 5, United States Code, of directing OPM to establish an emergency leave transfer program. The Director of OPM shall exercise this authority in consultation with the Director of the Office of Management and Budget.

(b) The Director of OPM shall notify the President of the establishment of any emergency leave transfer program pursuant to the authority in subsection (a).

Sec. 2. This order is not intended to, and does not, create any right or benefit, substantive or procedural, enforceable at law or in equity by any party against the United States, its departments, agencies, or entities, its officers, employees, or agents, or any other person.

THE WHITE HOUSE,

October 31, 2016.

[FR Doc. 2016-26753

Filed 11-2-16; 8:45 am]

Billing code 3295-F7-P